FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street, SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR Part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Acting Executive Associate Director, Mitigation Directorate, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
CONNECTICUT
New Britain (City), Hartford County (FEMA Docket No. D-7508)
Webster Brook:
Approximately 500 feet downstream of corporate limits | *51
Approximately 170 feet upstream of New Britain Avenue | *66
Piper Brook:
At downstream corporate limits | *80
Approximately 280 feet upstream of corporate limits | *80
Bass Brook:
At downstream corporate limits | *87
Approximately 770 feet upstream of Lewis Road | *265
Batterson Park Pond Brook:
At Alexander Road | *182
Approximately 275 feet upstream of Brittany Farms Road culverts | *207
Sandy Brook:
At confluence with Bass Brook | *87
Approximately 575 feet upstream of Ella Grasso Boulevard | *130
Maps available for inspection at the New Britain City Hall, 27 West Main Street, New Britain, Connecticut.
———
Newington (Town), Hartford County (FEMA Docket No. D-7508)
Mill Brook:
At the confluence with Piper Brook | *50
Approximately 380 feet upstream of dam with footbridge | *74
Schoolhouse Brook:
Approximately 0.3 mile downstream of Wilson Avenue | *74
At Robbins Avenue | *81
Piper Brook:
At the downstream corporate limits | *49
Approximately 350 feet upstream of confluence of Bass Brook | *79
Rock Hole Brook:
Approximately 340 feet downstream of Stonehedge Drive | *51
Approximately 380 feet upstream of Willard Avenue | *89
Webster Brook:
Approximately 0.54 mile downstream of Kelsey Street | *48
Approximately 0.52 mile upstream of railroad embankment | *74
Webster Brook Tributary:
At the confluence with Webster Brook | *68
Approximately 1,300 feet upstream of Liberty Street | *71
Bass Brook:
At confluence with Piper Brook | *79
Approximately 100 feet upstream of Route 9 | *100
Maps available for inspection at the Newington Town Hall, 131 Cedar Street, Newington, Connecticut.
GEORGIA
Morgan County (Unincorporated Areas) (FEMA Docket No. D-7510)
Apalachee River:
Approximately 2.98 miles downstream of State Route 186 | *574
Just downstream of State Route 186 | *623
Maps available for inspection at the Morgan County Building Inspector's Office, 384 Hancock Street, Madison, Georgia.
MASSACHUSETTS
Northbridge (Town), Worcester County (FEMA Docket No. D-7508)
Riverdale Mills Sluice Gates and Tail Race:
Approximately 675 feet downstream of Riverdale Street | *256
Approximately 400 feet upstream of Riverdale Street | *260
Blackstone River:
Approximately 25 feet downstream of Riverdale Street | *257
Approximately 0.9 mile upstream of Factory Bridge | *274
Maps available for inspection at the Northbridge Town Hall, Zoning Office, 7 Main Street, Whitinsville, Massachusetts.
NEW HAMPSHIRE
Nashua (City), Hillsborough County (FEMA Docket No. D-7506)
Nashua River:
At the downstream side of B&M Railroad Bridge | *114
Approximately 0.75 mile upstream of State Route 11 | *176
Bartemus Brook:
At confluence with Nashua River | *165
At upstream corporate limits | *166
Maps available for inspection at the Nashua City Hall, 229 Main Street, Nashua, New Hampshire.
NEW JERSEY
Bernards (Township), Somerset County (FEMA Docket No. D-7504)
Passaic River:
Approximately 1.6 miles downstream of Passaic Valley Road | *214
Approximately 100 feet downstream of the upstream corporate limits | *303
Dead River:
At the downstream corporate limits | *214
Approximately 0.78 mile upstream of the downstream corporate limits | *216
Maps available for inspection at the Bernards Township Hall, Engineer's Office, 277 South Maple Avenue, Bernards, New Jersey.
———
Warren (Township), Somerset County (FEMA Docket No. D-7506)
Passaic River:
Approximately 0.38 mile downstream of Hillcrest Road | *213
Approximately 3.45 miles upstream of Stirling Road | *214
Maps available for inspection at the Warren Township Hall, Engineer's Office, 46 Mountain Boulevard, Warren, New Jersey.
NEW YORK
Davenport (Town), Delaware County (FEMA Docket No. D-7508)
Charlotte Creek:
At the confluence with the Susquehanna River | *1,101
At upstream corporate limits | *1,327
Maps available for inspection at the Davenport Town Hall, Route 23, Davenport Center, New York.
———
Evans (Town), Erie County (FEMA Docket No. D-7508)
Reisch Creek:
At the confluence with Lake Erie | *580
A point approximately 180 feet upstream of Revere Drive | *681
Lake Erie:
Southwest corporate limits along Lake Erie | *580
Northeast corporate limits along Lake Erie | *581
Maps available for inspection at the Evans Town Hall, 8787 Erie Road, Angola, New York 14006-9600.
Leray (Town), Jefferson County (FEMA Docket No. D-7508)
Indian River:
Approximately 0.43 mile downstream of Joachim Road | *406
Approximately 1.48 miles upstream of Elm Ridge Road | *413
West Creek:
At its confluence with Indian River | *410
Approximately 1.07 miles upstream of the confluence with Indian River | *410
Maps available for inspection at the Leray Town Hall, 8433 Willow Street, Evans Mills, New York 13637.
TENNESSEE
Adamsville (Town), McNairy County (FEMA Docket No. D-7510)
Beason Creek:
Approximately 725 feet downstream of the corporate limits | *452
Approximately 25 feet upstream of Lynn Street | *494
Beason Creek Tributary:
At the confluence with Beason Creek | *468
Approximately 100 feet upstream of South Oak Street | *505
Snake Creek:
Approximately 1,440 feet downstream of State Route 22 | *402
Approximately 600 feet upstream of State Route 22 | *402
Maps available for inspection at the Adamsville City Hall, 231 East Main Street, Adamsville, Tennessee.
VERMONT
Stowe (Town), Lamoille County (FEMA Docket No. D-7510)
West Branch Little River:
At confluence of East Branch Little River | *705
Approximately 100 feet upstream of State Route 108 | *960
Little River:
Approximately 630 feet upstream of Canoe Factory Dam | *688
At confluence of East Branch Little River | *705
East Branch Little River:
At confluence with Little River | *705
Approximately 400 feet upstream of Cemetery Road | *708
Maps available for inspection at the Stowe Town Hall, 67 Main Street, Stowe, Vermont.

(Catalog of Federal Domestic Assistance No. 83.100, “Flood Insurance.”)
Robert F. Shea,
Acting Administrator, Federal Insurance and Mitigation Administration.

[FR Doc. 01-24349 Filed 9-27-01; 8:45 am]

BILLING CODE 6718-04-P